DEPARTMENT OF HEALTH AND HUMAN SERVICES

Administration for Children and Families

Proposed Information Collection Activity; Measuring Human Trafficking Prevalence in Construction: A Field Test of Multiple Estimation Methods (New Collection)

AGENCY: Office of Planning, Research, and Evaluation, Administration for Children and Families, HHS.

ACTION: Request for public comment.

SUMMARY: The Administration for Children and Families (ACF) is proposing a new data collection activity for Measuring Human Trafficking Prevalence in Construction: A Field Test of Multiple Estimation Methods. This study will examine the labor trafficking and other labor exploitation experiences among individuals who work in construction. The goal of this study is to advance knowledge of promising methods for estimating human trafficking prevalence by field-testing two methods of prevalence estimation within the construction industry in Houston, Texas.

DATES: Comments due within 60 days of publication. In compliance with the requirements of the Paperwork Reduction Act of 1995, ACF is soliciting public comment on the specific aspects of the information collection described above.

ADDRESSES: Copies of the proposed collection of information can be obtained and comments may be forwarded by emailing OPREinfocollection@acf.hhs.gov. All requests should be identified by the title of the information collection.

SUPPLEMENTARY INFORMATION:

Description: The purpose of the proposed data collection activity is to estimate the prevalence of labor trafficking among construction workers in one location using two different sampling and estimation strategies. The proposed information collection activity is a one-time survey with up to 4,200 adults who worked in the construction industry in the selected geographic location in the 24 months prior to data collection. The construction worker survey will be offered in English and Spanish to workers identified through the following two sampling strategies: (1) Probability sample (i.e., time location sample), and (2) a network sample. The survey instrument used for individuals recruited through the two different sampling strategies will be primarily the same and includes questions focused on the individuals' experiences with labor exploitation and trafficking; employment histories, including work after a natural disaster; social networks; and demographic data.

Respondents: English- and Spanish-speaking individuals who have worked in construction in Houston, Texas, in the 2 years prior to data collection will be invited to complete a survey.

Annual Burden Estimates
Instrument | Number of respondents (total over request period) | Number of responses per respondent (total over request period) | Avg. burden per response (in hours) | Total burden (in hours) | Annual burden (in hours)
Construction Worker Survey | 4,200 | 1 | 1 | 0.5 | 2,100

Estimated Total Annual Burden Hours: 2,100.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Section 105(d)(2) of the Trafficking Victims Protection Act of 2000 (Pub. L. 106-386) [22 U.S.C. 7103].

Mary B. Jones,
ACF/OPRE Certifying Officer.

[FR Doc. 2021-25392 Filed 11-19-21; 8:45 am]

BILLING CODE 4184-47-P